DEPARTMENT OF HEALTH AND HUMAN SERVICES

National Institutes of Health

Center for Scientific Review; Amended Notice of Meeting

Notice is hereby given of a change in the meeting of the Skeletal Biology Development and Disease Study Section, October 16, 2013, 08:00 a.m. to October 17, 2013, 05:30 p.m., Hilton Alexandria Old Town, 1767 King Street, Alexandria, VA 22314, which was published in the Federal Register on September 17, 2013, 78 FR 180 Pgs. 57168-57169.

The meeting will be held at the Embassy Suites Alexandria, 1900 Diagonal Road, Alexandria, VA 22314. The meeting will start on December 10, 2013 at 8:00 a.m. and end December 11, 2013 at 1:30 p.m. The meeting is closed to the public.

Dated: October 29, 2013.
Melanie J. Gray,
Program Analyst, Office of Federal Advisory Committee Policy.

[FR Doc. 2013-26179 Filed 11-1-13; 8:45 am]

BILLING CODE 4140-01-P